INTERNATIONAL TRADE COMMISSION

[Investigation No. 337-TA-1139]

Certain Electronic Nicotine Delivery Systems and Components Thereof; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 8) of the presiding administrative law judge (“ALJ”) granting Complainant's motion to amend the complaint and notice of investigation (“NOI”).

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On December 13, 2018, the Commission instituted this investigation under section 337 of the Tariff Act of 1930, as amended, 19 U.S.C. 1337 (“section 337”), based on a complaint filed by Juul Labs, Inc. of San Francisco, California (“Complainant”). See 83 FR 64156-57 (Dec. 13, 2018). The complaint, as amended and supplemented, alleges a violation of section 337 based upon the importation into the United States, the sale for importation, and the sale within the United States after importation of certain electronic nicotine delivery systems and components thereof by reason of infringement of certain claims of U.S. Patent No. 10,070,669; U.S. Patent No. 10,076,139; U.S. Patent No. 10,045,568; U.S. Patent No. 10,058,130; and U.S. Patent No. 10,104,915. See id. The notice of investigation named the following respondents: J Well France S.A.S. of Paris, France; Bo Vaping of Garden City, New York; MMS Distribution LLC of Rock Hill, New York; The Electric Tobacconist, LLC of Boulder, Colorado; Vapor 4 Life Holdings, Inc. of Northbrook, Illinois; Eonsmoke, LLC of Clifton, New Jersey; ZLab S.A. of Punta del Este, Uruguay; Ziip Lab Co., Limited of Shenzhen City, China; Shenzhen Yibo Technology Co., Ltd. of Shenzhen City, China; XFire, Inc. of Stafford, Texas; ALD Group Limited of Shenzhen City, China; Flair Vapor LLC of South Plainfield, New Jersey; Shenzhen Joecig Technology Co., Ltd. of Shenzhen City, China; Myle Vape Inc. of Jamaica, New York; Vapor Hub International, Inc. of Simi Valley, California; Limitless Mod Co. of Simi Valley, California; Asher Dynamics, Inc. of Chino, California; Ply Rock of Chino, California; Infinite-N Technology Limited of Shenzhen City, China; King Distribution LLC of Elmwood Park, New Jersey; and Keep Vapor Electronic Tech. Co., Ltd. of Shenzhen, China. See id. The Office of Unfair Import Investigations (“OUII”) is also a party to the investigation. See id.

On February 1, 2019, Complainant filed a motion to amend the complaint and NOI to: (1) Change the name of respondent “Bo Vaping” to “ECVD/MMS Wholesale LLC,” and (2) substitute for respondent “MMS Distribution LLC,” the correct entity, which is “MMS/ECVD LLC.” On February 25, 2019, the ALJ issued the subject ID (Order No. 8) granting the motion. See id. at 3. The ID finds that “good cause exists to amend the complaint and notice of investigation to conform to the correct information,” under Commission Rule 210.14(b), 19 CFR 210.14(b). See id. The ID further finds that “this amendment would not prejudice the public interest or the rights of the parties to the investigation.” See id.

No petition for review of the subject ID was filed. The Commission has determined not to review the ID.

The authority for the Commission's determination is contained in section 337 of the Tariff Act of 1930, as amended (19 U.S.C. 1337), and in part 210 of the Commission's Rules of Practice and Procedure (19 CFR part 210).

By order of the Commission.
Issued: March 25, 2019.
Katherine Hiner,
Acting Secretary to the Commission.

[FR Doc. 2019-06047 Filed 3-28-19; 8:45 am]

BILLING CODE 7020-02-P